DEPARTMENT OF HOMELAND SECURITY

Federal Emergency Management Agency

[Docket ID FEMA-2015-0001; Internal Agency Docket No. FEMA-B-1502]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before August 4, 2015.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1502, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

(Catalog of Federal Domestic Assistance No. 97.022, “Flood Insurance.”)

Dated: April 22, 2015.
Roy E. Wright,
Deputy Associate Administrator for Mitigation, Department of Homeland Security, Federal Emergency Management Agency.

Community | Community map repository address
Mohave County, Arizona, and Incorporated Areas
Maps Available for Inspection Online at: http://www.fema.gov/preliminaryfloodhazarddata
Unincorporated Areas of Mohave County | County Administration Building, 700 West Beale Street, Kingman, AZ 86401.
Napa County, California, and Incorporated Areas
Maps Available for Inspection Online at: http://www.fema.gov/preliminaryfloodhazarddata
City of American Canyon | Community Development, 4381 Broadway Street, Suite 201, American Canyon, CA 94503.
City of Napa | Public Works Department, 1600 First Street, Napa, CA 94559.
Unincorporated Areas of Napa County | Public Works Department, 1195 Third Street, Napa, CA 94559.
San Bernardino County, California, and Incorporated Areas
Maps Available for Inspection Online at: http://www.fema.gov/preliminaryfloodhazarddata
City of Barstow | Engineering Department, 220 East Mountain View Street, Suite A, Barstow, CA 92311.
City of Colton | Public Works Department, 160 South Tenth Street, Colton, CA 92324.
City of Grande Terrace | City Hall, 22795 Barton Road, Grand Terrace, CA 92313.
City of Hesperia | City Hall, 9700 Seventh Avenue, Hesperia, CA 92345.
City of Highland | City Hall, 27215 Base Line Street, Highland, CA 92346.
City of Needles | City Hall, Engineering Department, 817 Third Street, Needles, CA 92363.
City of Ontario | City Hall, Engineering Department Public Counter, 303 East B Street, Ontario, CA 91764.
City of Rancho Cucamonga | City Hall, Engineering Department Plaza Level, 10500 Civic Center Drive, Rancho Cucamonga, CA 91730.
City of Redlands | City Hall, 35 Cajon Street, Redlands, CA 92373.
City of Rialto | City Hall, 150 South Palm Avenue, Rialto, CA 92376.
City of San Bernardino | City Hall, 300 North D Street, San Bernardino, CA 92418.
City of Twentynine Palms | City Hall, 6136 Adobe Road, Twentynine Palms, CA 92277.
City of Upland | City Hall, 460 North Euclid Avenue, Upland, CA 91786.
City of Victorville | City Hall, Planning Department, 14343 Civic Drive, Victorville, CA 92393.
Town of Apple Valley | Town Hall, 14955 Dale Evans Parkway, Apple Valley, CA 92307.
Unincorporated Areas of San Bernardino County | Public Works Department, Water Resources Department, 825 East Third Street, San Bernardino, CA 92415.
Solano County, California and Incorporated Areas
Maps Available for Inspection Online at: http://www.fema.gov/preliminaryfloodhazarddata
City of Benicia | Public Works Division, 250 East L Street, Benicia, CA 94510.
City of Fairfield | Public Works, Engineering Division, 1000 Webster Street, Fairfield, CA 94533.
City of Suisun City | Public Works Department, 701 Civic Center Boulevard, Suisun City, CA 94585.
City of Vallejo | Public Works, 555 Santa Clara Street, Vallejo, CA 94590.
Unincorporated Areas of Solano County | Public Works Department, 675 Texas Street, Suite 5500, Fairfield, CA 94553.
Utah County, Utah and Incorporated Areas
Maps Available for Inspection Online at: http://www.fema.gov/preliminaryfloodhazarddata
City of Alpine | City Hall, 20 North Main Street, Alpine, UT 84004.

[FR Doc. 2015-10522 Filed 5-5-15; 8:45 am]

BILLING CODE 9110-12-P